ENVIRONMENTAL PROTECTION AGENCY

[FRL-7847-3]

Proposed Agreement Pursuant to Section 122(h)(1) of the Comprehensive Environmental Response, Compensation, and Liability Act for the MichCon Mercury Regulators Site

AGENCY: Environmental Protection Agency (EPA).

ACTION: Notice; request for public comment on proposed CERCLA 122(h)(1) agreement with Michigan Consolidated Gas Co., an operating subsidiary of DTE Energy Co., for the MichCon Mercury Regulators Superfund Site.

SUMMARY: In accordance with section 122(i)(1) of the Comprehensive Environmental Response, Compensation and Liability Act of 1984, as amended (“CERCLA”), notification is hereby given of a proposed administrative agreement concerning the MichCon Mercury Regulators hazardous waste site in and around Detroit, Michigan (the “Site”). EPA proposes to enter into this agreement under the authority of section 122(h) and 107 of CERCLA. The proposed agreement has been executed by Michigan Consolidated Gas Co., an operating subsidiary of DTE Energy Co. (the “Settling Party”).

Under the proposed agreement, the Settling Party will pay $160,000 to the Hazardous Substances Superfund to resolve EPA's claims against it for response costs incurred by EPA at the Site. EPA incurred response costs overseeing the Settling Party's response actions to investigate and mitigate potential imminent and substantial endangerments to human health or the environment presented or threatened by hazardous substances present at the Site.

For thirty days following the date of publication of this notice, the Environmental Protection Agency will receive written comments relating to this proposed agreement. EPA will consider all comments received and may decide not to enter this proposed agreement if comments disclose facts or considerations which indicate that the proposed agreement is inappropriate or inadequate.

DATES: Comments on the proposed agreement must be received by EPA on or before January 18, 2005.

ADDRESSES: Comments should be addressed to the Docket Clerk, U.S. Environmental Protection Agency, Region 5, 77 West Jackson Boulevard, Chicago, Illinois 60604-3590, and should refer to: In the Matter of MichCon Mercury Regulators Site, U.S. EPA Docket No. V-W-05C-804.

FOR FURTHER INFORMATION CONTACT: Thomas J. Krueger, U.S. Environmental Protection Agency, Office of Regional Counsel, C-14J, 77 West Jackson Boulevard, Chicago, Illinois 60604-3590, (312) 886-0562.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Thomas Mateer,
Acting Director, Superfund Division, Region 5.

[FR Doc. 04-27549 Filed 12-15-04; 8:45 am]

BILLING CODE 6560-50-M